DEPARTMENT OF THE INTERIOR

Bureau of Land Management

[CA-320-1820-XQ]

Notice of Resource Advisory Council Meeting

AGENCY: Bureau of Land Management Northeast California Resource Advisory Council, Susanville, California.

ACTION: Notice of meeting.

SUMMARY: Pursuant to the authorities in the Federal Advisory Committees Act (Public Law 92-463) and the Federal Land Policy and Management Act (Public Law 94-579), the U. S. Bureau of Land Management's Northeast California Resource Advisory Council will meet Friday, March 10, 2000, at the Bureau of Land Management's Eagle Lake Field Office, 2950 Riverside Drive, Susanville, CA.

SUPPLEMENTARY INFORMATION: The meeting begins at 8 a.m. in the Eagle Lake Field Office Conference Room. Agenda items include an update on Grass Banking, a status report on a proposal to list the sage grouse under the Endangered Species Act, and a report from the council's off highway vehicle working group. The council will also hear reports on the status of a proposal to designate a National Conservation Area is parts of the Black Rock Desert and High Rock Canyon, and other proposals for special area designations. Time will be set aside on the agenda for public comments.

FOR FURTHER INFORMATION CONTACT: Contact BLM Alturas Field Manager Tim Burke at (530) 257-4666.

Joseph J. Fontana,
Public Affairs Officer.

[FR Doc. 00-2683 Filed 2-4-00; 8:45 am]

BILLING CODE 4310-40-P